DEPARTMENT OF THE TREASURY

Submission for OMB Review; Comment Request

May 20, 2011.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11010, 1750 Pennsylvania Avenue, NW., Washington, DC 20220.

Dates: Written comments should be received on or before June 24, 2011 to be assured of consideration.

Financial Crimes Enforcement Network (FinCEN)

OMB Number: 1506-NEW.

Type of Review: New Collection.

Title: Bank Secrecy Act Currency Transaction Report (BSA-CTR).

Form: FinCEN 112.

Abstract: FinCEN is continuing the design of a new Bank Secrecy Act (BSA) database (the Database) and invites comment on the list of proposed data fields within the Database that will be required to support unified Currency Transaction Report (CTR) filings by financial institutions required to file such reports under the BSA. The BSA-CTR incorporates the latest technology in electronic information collection.

Affected Public: Private Sector: Businesses or other for-profits, Not-for-profit institutions.

Estimated Total Burden Hours: 9,402,046.

OMB Number: 1506-0012.

Type of Review: Revision of a currently approved collection.

Title: Designation of Exempt Person.

Form: FinCEN 110.

Abstract: This incorporates into FinCEN Form 110 the changes enacted January 2009. This action updates this ICR to reflect the addition of 31 CFR 1010.306(a)(3), 31 CFR 1010.306(d), as being renewed as part of this control number. The two additional references constitute two hours to the existing burden. This action is the result of the reallocation of burden from 1506-0009 to 1506-0012.

Affected Public: Private Sector: Businesses or other for-profits, Not-for-profit institutions.

Estimated Total Burden Hours: 38,750.

Bureau Clearance Officer: Russell Stephenson (202) 354-6012, Department of the Treasury, Financial Crimes Enforcement Network, P.O. Box 39, Vienna, VA 22183; (202) 354-6012.

OMB Reviewer: Shagufta Ahmed, Office of Management and Budget, New Executive Office Building, Room 10235, Washington, DC 20503; (202) 395-7873.

Dawn D. Wolfgang,
Treasury PRA Clearance Officer.

[FR Doc. 2011-12942 Filed 5-24-11; 8:45 am]

BILLING CODE 4810-02-P